DEPARTMENT OF THE INTERIOR

National Park Service

[NPS-WASO-NAGPRA-NPS0037716; PPWOCRADN0-PCU00RP14.R50000]

Notice of Inventory Completion: University of Tennessee, Department of Anthropology, Knoxville, TN, and South Dakota State Archaeological Research Center, Rapid City, SD

AGENCY: National Park Service, Interior.

ACTION: Notice.

SUMMARY: In accordance with the Native American Graves Protection and Repatriation Act (NAGPRA), the University of Tennessee, Department of Anthropology (UTK) and the South Dakota State Archaeological Research Center (ARC) have completed an inventory of human remains and associated funerary objects and have determined that there is a cultural affiliation between the human remains and associated funerary objects and Indian Tribes or Native Hawaiian organizations in this notice.

DATES: Repatriation of the human remains and associated funerary objects in this notice may occur on or after May 13, 2024.

ADDRESSES: Dr. Ozlem Kilic, University of Tennessee, Office of the Provost, 527 Andy Holt Tower, Knoxville, TN 37996-0152, telephone (865) 974-2454, email okilic@utk.edu and vpaa@utk.edu and Dustin Lloyd, South Dakota State Archaeological Research Center, 937 East North Street, Suite 201, Rapid City, SD 57701, telephone (605) 391-2928, email dustin.lloyd@state.sd.us.

SUPPLEMENTARY INFORMATION: This notice is published as part of the National Park Service's administrative responsibilities under NAGPRA. The determinations in this notice are the sole responsibility of UTK and the ARC, and additional information on the determinations in this notice, including the results of consultation, can be found in the inventory or related records. The National Park Service is not responsible for the determinations in this notice.

Abstract of Information Available

Based on the information available, human remains representing, at least, two individuals from two distinct sites have been reasonably identified. The four associated funerary objects are one lot of two lots of faunal remains, one lot of ceramics, and one lot of lithics.

Human remains representing, at minimum, one individual were removed from site 39BK101, near Lake Campbell in Brookings County, South Dakota. These remains were exposed by animal activity in 1954 and removed from the site by a homeowner named Searles. They were taken to “State College” (possibly South Dakota State University), after which they were presumably transferred to the South Dakota State Archaeological Research Center (ARC). The ARC sent the remains to UTK for inventory in 1987. After the inventory project was completed, most of the remains were returned to the ARC and repatriated under South Dakota state law; however, a few bone fragments retained by UTK were found in the Department of Anthropology collections in 2021. No associated funerary objects are present at UTK; however, the ARC retained three lots of associated funerary objects. These are one lot of faunal remains, one lot of ceramics, and one lot of lithics. The associated funerary objects were not treated with any type of hazardous chemicals/substances nor treated with any type of preservation agent or chemical; however, the ceramic and lithic lots are marked with the site number and accession number.

In 1981, human remains were removed from the Hilde Gravel Pit (39LK7) in Lake County, South Dakota. The remains were found falling to the bottom of a gravel pit and reported to local law enforcement. They were removed from the site by Adrian Hannus of the Center for Western Studies at Augustana College and sent to John B. Gregg at the University of South Dakota School of Medicine for inventory. Gregg likely transferred the remains back to Hannus after analysis. Hannus probably transferred the individual to the ARC. The ARC sent the remains to the UTK Department of Anthropology for inventory in 1987. Most of the remains were returned to the ARC after completion of the inventory project and repatriated under South Dakota state law; however, bone fragments and teeth representing 1 individual were retained by UTK and were found in the Department of Anthropology collections in 2021. No associated funerary objects are present at UTK: however, the ARC retained one lot of associated funerary objects. This is one lot of faunal remains. The associated funerary objects were not treated with any type of hazardous chemicals/substances nor treated with any type of preservation agent or chemical.

These human remains and objects come from Brookings County and Lake County, SD. These counties are part of the treaty lands of the Santee Sioux (today both the Flandreau Santee Sioux Tribe of South Dakota, and the Santee Sioux Nation, Nebraska), as established in Executive Orders in 1867 and 1869. The human remains were not treated with any type of hazardous chemicals/substances, nor treated with any type of preservation agent or chemical.

Cultural Affiliation

Based on the information available and the results of consultation, cultural affiliation is reasonably identified by the geographical location or acquisition history of the human remains and associated funerary objects described in this notice.

Determinations

The UTK and the ARC have determined that:

• The human remains described in this notice represent the physical remains of two individuals of Native American ancestry.

• The four objects described in this notice are reasonably believed to have been placed intentionally with or near individual human remains at the time of death or later as part of the death rite or ceremony.

• There is a reasonable connection between the human remains and associated funerary objects described in this notice and the Flandreau Santee Sioux Tribe of South Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after May 13, 2024. If competing requests for repatriation are received, UTK and the ARC must determine the most appropriate requestor prior to repatriation. Requests for joint repatriation of the human remains and associated funerary objects are considered a single request and not competing requests. UTK and the ARC are responsible for sending a copy of this notice to the Indian Tribes and Native Hawaiian organizations identified in this notice.

Authority: Native American Graves Protection and Repatriation Act, 25 U.S.C. 3003, and the implementing regulations, 43 CFR 10.10.

Dated: April 2, 2024.
Melanie O'Brien,
Manager, National NAGPRA Program.

[FR Doc. 2024-07715 Filed 4-10-24; 8:45 am]

BILLING CODE 4312-52-P